DEPARTMENT OF AGRICULTURE

Food Safety and Inspection Service

[Docket No. FSIS-2007-0047]

Codex Alimentarius Commission: Meeting of the Codex Committee on Natural Mineral Waters

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services (HHS), are sponsoring a public meeting on January 16, 2008. The objective of the public meeting is to provide information and receive public comments on agenda items and draft United States positions that will be discussed at the 8th Session of the Codex Committee on Natural Mineral Waters (CCNMW) of the Codex Alimentarius Commission (Codex), which will be held in Lugano, Switzerland on February 11-15, 2008.

The Under Secretary for Food Safety and FDA recognize the importance of providing interested parties the opportunity to obtain background information on the 8th Session of the CCNMW and to address items that will be on the agenda.

DATES: The public meeting is scheduled for Wednesday, January 16, 2008, from 9 a.m. to 12 noon.

ADDRESSES: The public meeting will be held in Room 1A001, FDA, Center for Food Safety and Applied Nutrition (CFSAN), Harvey Wiley Federal Building, 5100 Paint Branch Parkway, College Park, MD 20740. Codex documents related to the 8th Session of the CCNMW will be accessible via the World Wide Web at the following address: http://www.codexalimentarius.net/current.asp.

The Acting U.S. Delegate to the CCNMW, Dr. Henry Kim, invites interested U.S. parties to submit their comments electronically to the following e-mail address: henry.kim@fda.hhs.gov.

Registration: Register electronically to the same e-mail address above. Early registration is encouraged because it will expedite entry into the building and its parking area. If you require parking, please include the vehicle make and tag number, if known, when you register. Because the meeting will be held in a Federal building, you should also bring photo identification and plan for adequate time to pass through security screening systems.

FOR FURTHER INFORMATION ABOUT THE 8th SESSION OF THE CCNMW CONTACT: Henry Kim, Acting U.S. Delegate to the CCNMW, Office of Food Safety, CFSAN, FDA, 5100 Paint Branch Parkway (HFS-317), College Park, MD 20740, Phone: (301) 436-2023, Fax: (301) 436-2651, e-mail: henry.kim@fda.hhs.gov.

FOR FURTHER INFORMATION ABOUT THE PUBLIC MEETING CONTACT: Edith Kennard, Staff Officer, U.S. Codex Office, Food Safety and Inspection Service (FSIS), Room 4861, South Building, 1400 Independence Avenue, SW., Washington, DC 20250, Phone: (202) 720-5261, Fax: (202) 720-3157, e-mail: edith.kennard@fsis.usda.gov.

SUPPLEMENTARY INFORMATION:

Background

The Codex Alimentarius Commission (Codex) was established in 1963 by two United Nations organizations, the Food and Agriculture Organization and the World Health Organization (WHO). Through adoption of food standards, codes of practice, and other guidelines developed by its committees, and by promoting their adoption and implementation by governments, Codex seeks to protect the health of consumers and ensure that fair practices are used in trade.

The Codex Committee on Natural Mineral Waters (CCNMW) was established by the Commission as a regional Codex Committee, but has since been allocated the task of elaborating worldwide standards for natural mineral waters and bottled (packaged) water other than natural mineral water. The Committee is hosted by Switzerland.

Issues To Be Discussed at the Public Meeting

The following items will be discussed during the public meeting:

• Matters Referred to the Committee by the Codex Alimentarius Commission and Other Codex Committees.

• Consideration of the Health-Related Limits for Certain Substances in the Codex Standard on Natural Mineral Waters (CODEX STAN 108-1981).

• Substances listed as having discrepancies that exist between the Codex Standard and the WHO Guidelines for Drinking Water Quality, 3rd edition (guideline values for chemicals of health significance).

• Discrepancies between the Codex Standards and WHO Guidelines exist for

—Antimony

—Borate

—Copper

—Manganese

—Nitrite

—Mercury

—Nickel

Each item listed above will be fully described in documents distributed, or to be distributed, by the Swiss Secretariat prior to the February 11-15, 2008 meeting in Lugano, Switzerland. Members of the public may access copies of these documents at http://www.codexalimentarius.net/current.asp.

Public Meeting

At the January 16, 2008, public meeting, draft U.S. positions on the agenda items will be described and discussed, and attendees will have the opportunity to pose questions and offer comments. Written comments may be offered at the meeting or sent to the Acting U.S. Delegate for the 8th Session of the CCNMW, Dr. Henry Kim, at henry.kim@fda.hhs.gov. Written comments should state that they relate to activities of the 8th Session of the CCNMW.

Additional Public Notification

Public awareness of all segments of rulemaking and policy development is important. Consequently, in an effort to ensure that minorities, women, and persons with disabilities are aware of this notice, FSIS will announce it online through the FSIS Web page located at http://www.fsis.usda.gov/regulations/2008_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an electronic mail subscription service which provides automatic and customized access to selected food safety news and information. This service is available at http://www.fsis.usda.gov/news_and_events/email_subscription/. Options range from recalls to export information to regulations, directives and notices. Customers can add or delete subscriptions themselves, and have the option to password protect their accounts.

Done at Washington, DC, on January 7, 2008.
Paulo Almeida,
Acting U.S. Manager for Codex Alimentarius.

[FR Doc. E8-310 Filed 1-10-08; 8:45 am]

BILLING CODE 3410-DM-P